NATIONAL SCIENCE FOUNDATION

Earthscope Science and Education Advisory Committee; Notice of Meeting

In accordance with the Federal Advisory Committee Act (Pub. L. 92-463, as amended), the National Science Foundation announces the following meeting:

Name: EarthScope Science and Education Advisory Committee (#16638).

Dates/Time: 8 p.m.-9:30 p.m. Wednesday, January 21, 2004, 8:30 a.m.-5 p.m. Thursday, January 22 and 23, 2004. 8:30 a.m.-12 p.m. Saturday, January 24, 2004.

Place: Sheraton 4-Points Hotel, 1201 K Street NW., Washington, DC.

Type of Meeting: Part-Open (see agenda below).

FOR FURTHER INFORMATION CONTACT: Dr. James H. Whitcomb, Division of Earth Sciences, National Science Foundation, Suite 785, 4201 Wilson Boulevard, Arlington, VA 22230, Phone 703-292-8553.

Minutes: May be obtained from the contact person listed above.

Purpose of Meeting: To carry out EarthScope proposal and management review, including program evaluation, GPRA assessments, and access to privileged materials; and to provide advice, recommendations, and oversight concerning EarthScope construction, operation, science and education support.

Agenda:

January 21, 2004

8 p.m.-9 p.m. Closed—Discussions regarding proposals and personnel decisions.

January 22, 2004

8:30 a.m.-12:00 p.m. Open—Review of EarthScope Execution Plan.

1 p.m.-5 p.m. Closed—Review of funding decisions for personnel and subcontracts for construction phase of EarthScope.

January 23, 2004

8:30 a.m.-5 p.m. Open—Advise on education and outreach Management structure, and revision of volanic area instrumentation.

January 24, 2004

8:30 a.m.-12 p.m. Closed—Review of proposal actions and discussion of proposals still under review.

Reason for Closing: Session having to do with proposal and awards for specific grants, contracts, or other arrangements may properly be closed to the public under 5 U.S.C. 522b(c)(4), (6), and (9)(B) of the Government in the Sunshine Act.

Dated: December 19, 2003.
Susanne Bolton,
Committee Management Officer.

[FR Doc. 03-31716 Filed 12-23-03; 8:45 am]

BILLING CODE 7555-01-M